NATIONAL SCIENCE FOUNDATION

Agency Information Collection Activities: Comment Request

AGENCY: National Science Foundation.

ACTION: Submission for OMB Review; comment request.

SUMMARY: The National Science Foundation (NSF) has submitted the following information collection requirement to OMB for review and clearance under the Paperwork Reduction Act of 1995. This is the second notice for public comment; the first was published in the Federal Register, and no comments were received. NSF is forwarding the proposed submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays).

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section.

Copies of the submission may be obtained by calling 703-292-7556. NSF may not conduct or sponsor a collection of information unless the collection of information displays a currently valid OMB control number, and the agency informs potential persons who are to respond to the collection of information that such persons are not required to respond to the collection of information unless it displays a currently valid OMB control number.

SUPPLEMENTARY INFORMATION:

Title of Collection: Reporting Requirements for the National Science Foundation (NSF) Innovation Corps (I-Corps) Hubs Program.

OMB Number: 3145-0258.

Expiration Date of Approval: August 31, 2024.

Type of Request: Intent to seek approval on revising an existing information collection.

Abstract

Proposed Project

The National Science Foundation (NSF) Innovation Corps (I-Corps™), herein known as I-Corps program, was established at NSF in Fiscal Year (FY) 2012 to equip scientists with the entrepreneurial tools needed to transform discoveries with commercial realization potential into innovative technologies. The goal of the I-Corps Program is to use experiential education to help researchers reduce the time necessary to translate a promising idea from the laboratory to the marketplace. In addition to accelerating technology translation, NSF seeks to reduce the risk associated with technology development conducted without insight into industry requirements and challenges. The I-Corps Program uses a lean startup approach to encourage scientists to think like entrepreneurs through intensive workshop training and ongoing support.

In FY 2017, the American Innovation and Competitiveness Act (AICA), Public Law 114-329, Sec 601, formally authorized and directed the expansion of NSF I-Corps Program to increase the economic competitiveness of the United States, enhance partnerships between academia and industry, develop an American STEM workforce that is globally competitive, and support female entrepreneurs and individuals from historically underrepresented groups in STEM through mentorship, education, and training.

Under AICA, NSF has built and expanded the I-Corps Program through the National Innovation Network (NIN) model. NIN is a collection of NSF I-Corps Nodes and Sites that, together with NSF, implement the I-Corps program to grow and sustain the national innovation ecosystem. I-Corps Nodes are typically large, multi-institutional collaborations that deliver the NSF National I-Corps Teams training curriculum and recruit and train the National I-Corps instructors. I-Corps Sites are entrepreneurial centers located at individual colleges and universities that catalyze potential I-Corps teams within their local institutions. Together, the Nodes and Sites have served as the backbone of the NIN.

In 2020, NSF published the Program Solicitation, NSF 20-529, to formalize the launching of the NSF I-Corps Hubs Program, which further expands and strengthens the NIN. The I-Corps Hubs are designed to support inclusive, regional communities of innovators, in that teams are encouraged to recruit diverse members at all levels. In addition, the I-Corps Hubs Program also provides new pathways for teams to qualify for the participation in the National I-Corps M Teams program. Through the I-Corps Hubs solicitation, NSF seeks to evolve the current NIN structure, into a more integrated model capable of sustained operation at the scope and scale required to support the expansion of the NSF I-Corps Program as directed by AICA.

Under AICA, NSF is directed to collect data and information pertaining to the characteristics, outputs, and outcomes from the teams as well as individuals funded by the NSF I-Corps™ Program. The collection of this information will enable the evaluation of and reporting on the four themes as outlined in the FY 2021 NSF I-Corps Biennial Report to Congress:

1. Technology Translation

2. Entrepreneurial Training and Workforce Development

3. Economic Impact

4. Collaboration and Inclusion

Recently, NSF published a new I-Corps Hubs Solicitation, NSF 22-566, that supplants the now archived NSF 20-529. The new solicitation contains a set of modified grantee reporting requirements. In response to these modifications, NSF requests the revision of the previously cleared grantee reporting requirements under 3145-0258 to reflect the updates in NSF 22-566. NSF will modify the awards made under NSF 20-529 to comply with the new reporting requirements outlined in NSF 22-566 once this Paperwork Reduction Act request is approved by the OMB.

Under the new reporting requirements outlined in NSF 22-566, each Hub is required to provide data and documentation to demonstrate the progress of the six (6) required activities:

1. Team Expansion

2. I-Corps Training

3. Institutional Expansion of the Hub

4. Evaluation of Hubs

5. Entrepreneurial Research

6. Broadening Participation

More concretely, each Hub is asked to report on the following:

1. Results from surveys that were designed to track the entrepreneurial progress of Program Participants

2. Results from a survey gauging the level of Participants' satisfaction with the Program (customer feedback)

3. Records on the Hub:

a. Institution name

b. Role (Lead or Partner)

c. Year joined the Hub

4. Records on the personnel working at the Lead and Partner institutions within the Hub:

a. Name

b. Role (Director, Coordinator, Evaluation Lead, etc)

c. Contact Information for each individual in 4.a

5. Records on cohorts of teams trained during a FY:

a. Date

b. Location

6. Records on the instructors by cohort:

a. Instructor's name

b. Instructor's affiliation

c. A brief bio of the instructor

d. Contact information

7. Records of all the teams and individuals participating in the Program

a. Teams -

i. Name of the Team

ii. Participation Date

iii. Mentor Assigned

iv. Contact Information of the Mentor

b. Participants -

i. Team Name

ii. Current occupation (faculty member, student, post-doc, or others)

iii. Institution Affiliation

iv. Location (State)

v. Gender, Demographics, Disability, and Veteran Status

8. Outcomes of the team:

a. I-Corps National Teams Program Pathway

i. Whether the Team has Applied and/or Been Accepted Into the NSF National I-Corps Program

1. If Applicable, the Team Number in the National Program

b. Funding/Investment Records, Obtained From Third-Party Subscription Data, for the Teams or Startups That Have Participated in the Program

The reporting requirements listed above are in addition to the data collected by the agency's annual report and final report requirements for the grantees. The information will help NSF report on NIN activities in the Biennial Report to Congress (as mandated by the AICA), and will provide managing Program Directors a means to monitor the progresses of these I-Corps Hubs. Finally, in compliance with the Evidence Act of 2019, information collected will be used to satisfy other Congressional requests, support the agency's policymaking and internal evaluation and assessment needs, and respond to inquiries from the public, NSF's external merit reviewers who serve as advisors, and NSF's Office of the Inspector General.

Information collected will include the names of the participants, their affiliated organizations, email addresses, and home states. These personally identifiable information (PII) are collected primarily to track recipients in their roles in the I-Corps Teams, and to allow NSF to perform due diligence and quality control on the data provided by the grantees. In addition, other requested information includes the participants' self-reporting of: occupation, gender, demographics, disability status, and veteran status. This information is collected primarily for Congressional reporting purposes. These PII data will be accessed only by the I-Corps Hubs, the managing I-Corps Program Directors, NSF senior management, and supporting staff conducting analyses using the data as authorized by NSF. Any public reporting of data will be in aggregate form, and any personal identifiers will be removed.

Use of the Information: The information collected is primarily for the agency's AICA Reporting requirements, and other Congressional requests.

Estimate burden on the public: Estimated to be no more than 300-400 hours per award, per year, for the life of the award.

Respondents: I-Corps Hubs Grantees (Each Hub reports one set of data on behalf of the Lead and partner institutions of that Hub).

Estimated number of respondents: 10-15 hubs.

Frequency: Twice per year for the first year, then once per year thereafter.

Dated: August 25, 2022.
Suzanne H. Plimpton,
Reports Clearance Officer, National Science Foundation.

[FR Doc. 2022-18725 Filed 8-29-22; 8:45 am]

BILLING CODE 7555-01-P